DEPARTMENT OF JUSTICE

Antitrust Division

Notice Pursuant to the National Cooperative Research and Production Act of 1993—Space Enterprise Consortium

Notice is hereby given that, on August 23, 2018, pursuant to Section 6(a) of the National Cooperative Research and Production Act of 1993, 15 U.S.C. 4301 et seq. (“the Act”), Space Enterprise Consortium (“SpEC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Accion Systems, Inc., Boston, MA; Adcole Maryland Aerospace, LLC, Marlborough, MA; Advanced Space, LLC, Boulder, CO; AKELA, Inc., Santa Barbara, CA; Alpha Space Test & Research Alliance LLC, Houston, TX; AMERGINT Technologies, Inc., Colorado Springs, CO; Applied Defense Solutions, Inc., Columba, MD; ASTRA, LLC, Boulder, CO; ATA Engineering, Inc., San Diego, CA; A-Tech Corporation, Albuquerque, NM; ATS-MER, LLC, Tucson, AZ; Ball Aerospace & Technologies Corp., Boulder, CO; Blue Canyon Technologies, Inc., Boulder, CO; Blue Residuum, LLC DBA Blue Residuum Space Alliances, Centreville, VA; Braxton Technologies, LLC, Colorado Springs, CO; Brilligent Solutions, Inc., Fairborn, OH; Charles River Analytics, Inc., Cambridge, MA; CMA Technologies, Inc., Orlando, FL; Cosmic Advanced Engineered Solutions, Inc., Colorado Springs, CO; Decisive Analytics Corporation, Arlington, VA; Electric Drivetrain Technologies, LLC, Castle Valley, UT; ExoAnalytic Solutions, Inc., Mission Viejo, CA; General Atomics, San Diego, CA; Harris Corporation, Palm Bay, FL; Hughes Network Systems, LLC, Germantown, MD; IERUS Technology, Inc., Huntsville, AL; Innoflight, Inc., San Diego, CA; Intelligent Fusion Technology, Inc., Germantown, MD; Iris Technology Corporation, Irvine, CA; Kratos Technology and Training Solutions, Inc., San Diego, CA; L-3 Communication E.O.-IR, Inc., Santa Rosa, CA; Leidos, Inc., Reston, VA; Lockheed Martin Corporation, Sunnyvale, CA; Measurement Analysis Corporation, Torrance, CA; MEI Technologies, Inc., Houston, TX; Microwave Innovations, Inc., Furlong, PA; Millennium Space Systems, El Segundo, CA; MMA Design LLC, Boulder, CO; Modern Technology Solutions, Inc., Alexandria, VA; Moog Inc., Elma, NY; MTEQ (Manufacturing Techniques, Inc.), Lorton, VA; NanoRacks, LLC, Houston, TX; NDP, LLC, Boulder, CO; Northrop Grumman Systems Corporation, Azusa, CA; NovaWurks, Inc., Los Alamitos, CA; Orbital Science Corporation, Dulles, VA; Parabilis Space Technologies, Inc., San Marcos, CA; Parson's Government Services, Inc., Pasadena, CA; Phoebus Optoelectronics LLC, Potsdam, NY; Princeton Satellite Systems, Inc., Plainsboro, NJ; Pumpkin, Inc., San Francisco, CA; Pyramid Imaging, Inc., Tampa, FL; Quantum Dimension, Inc., Huntington Beach, CA; Raytheon Company, Waltham, MA; Real Time Logic, Inc., Colorado Springs, CO; Riverside Research, New York, NY; Rocket Communications, Inc., San Francisco, Ca; SciTec, Inc., Princeton, NJ; Sierra Nevada Corporation-Space Systems, Louisville, CO; Solers, Inc., Arlington, VA; Sonalyst, Inc., Waterford, CT; Southern Aerospace Company, LLC, Madison, AL; Southwest Research Institute, San Antonio, TX; Space Information Laboratories, LLC, Santa Maria, CA; Space Micro, Inc., San Diego, CA; Space Systems Loral, LLC, Palo Alto, CA; SRI International, Menlo Park, CA; Stratolaunch Federal, Inc., Seattle, WA; Summit Technical Solutions, LLC, Colorado Springs, CO; Systems & Materials Research Corporation, Austin, TX; Systems Engineering Associates, Inc., Torrance, CA; The Boeing Company, Huntington Beach, CA; The Charles Stark Draper Lab, Inc., Cambridge, MA; The University of New Mexico, Albuquerque, NM; Tyvak Nano-Satellite Systems Inc., Irvine, CA; United Launch Alliance, LLC, Centennial, CO; Universities Space Research Association, Columbia, MD; Utah State University Research Foundation, DBA Space Dynamics Laboratory, North Logan, UT; Vector Launch, Inc., Tucson, AZ; Visionary Products, Inc., Draper, UT; VMware, Inc., Palo Alto, CA; ATA Aerospace, Albuquerque, NM; a.i. solutions, Inc., Lanham, MD; ACTA, LLC, Torrance, CA; Ampex Data Systems Corporation, Hayward, CA; Assurance Technology Corporation, Carlisle, MA; AT&T Government Solutions, Inc., Colorado Springs, CO; ATLAS Space Operations, Inc., Traverse City, MI; BAE Systems Information & Electronic Systems Integration, Inc., San Diego, CA; Booz Allen Hamilton, Inc., McLean, VA; Canyon Consulting, LLC, El Segundo, CA; Carahsoft Technology, Corp., Reston, VA; Centil, Broomfield, CO; Chandah Space Technologies, Houston, TX; Cimarron Software Services, Inc., Houston, TX; Colorado Engineering, Inc., Colorado Springs, CO; Deloitte Consulting LLP, Manhattan Beach, CA; DSoft Technology Company, Colorado Springs, CO; Dynetics Technical Solutions, Inc., Huntsville, AL; Emergent Space Technologies, Inc., Laurel, MD; ENSCO, Inc., Falls Church, VA; Epoch Concepts, LLC, Highlands Ranch, CO; Eutelsat America Corp., Washington, DC; ExoTerra Resource, LLC, Littleton, CO; Falcon ExoDynamics, Inc., Redondo Beach, CA; Frontier Technology Inc., Beavercreek, OH; General Dynamics Mission Systems, Inc., Scottsdale, AZ; Hewlett Packard Enterprise Company, Palo Alto, CA; Infinity Systems Engineering, LLC, Colorado Springs, CO; Inmarsat Government, Inc., Reston, VA; Intelsat General Corp., McLean, VA; INVOCON, Inc., Conroe, TX; Ki Ho Military Acquisition Consulting, Inc. DBA KIHOMAC, Inc., Reston, VA; L-3 Communications Cincinnati Electronics Corporation, Mason, OH; L3 Technologies, Inc., Communication Systems-West, Salt Lake City, UT; L3 Telemetry & RF Products, San Diego, CA; Loft Orbital Solutions, Inc., San Francisco, CA; M42 Technologies, LLC, Seattle, WA; Made In Space, Inc., Jacksonville, FL; MDA Information Systems, LLC, Gaithersburg, MD; Microcosm, Inc., Torrance, CA; NextGen Federal Systems, LLC, Morgantown, WV; Numerica Corporation, Ft. Collins, CO; Oakman Aerospace, Inc., Littleton, CO; Omitron, Inc., Beltsville, MD; Oracle America, Inc., Reston, VA; Polaris Alpha, LLC, Colorado Springs, CO; QuesTek Innovations, LLC, Evanston, IL; Radiance Technologies, Inc., Huntsville, AL; Rampart Technologies Corporation, Littleton, CO; Research Innovations, Incorporated, Alexandria, VA; Rincon Research Corporation, Tucson, AZ; River Front Services, Inc., Chantilly, VA; RKF Engineering Solutions, LLC, Bethesda, MD; SaraniaSat, Inc., Los Angeles, CA; Science Applications International Corporation (SAIC), Reston, VA; SEAKR Engineering Inc., Centennial, CO; Silicon Space Technology dba VORAGO Technologies, Austin, TX; Space Vector Corporation, Chatsworth, CA; SysCom, Inc., Colorado Springs, CO; The Genus Group, LLC, North Potomac, MC; Ultramet, Pacoima, CA; Ursa Major Technologies, Inc., Berthoud, CO; Vencore, Inc., Chantilly, VA; VIASAT, Inc., Carlsbad, CA; X-Band LLC, Cambridge, MA; Technology Advancement Group, Inc., Dulles, VA; MaXentric Technologies, LLC, Fort Lee, NJ; XL Scientific, LLC DBA Verus Research, Albuquerque, NM; The Design Knowledge Company, Fairborn, OH; Roccor, LLC, Longmont, CO; Matterwaves Antenna Technology Co., Torrance, CA; Stellar Exploration, Inc., San Luis Obispo, CA; Spectrum Laser & Technologies, Inc. DBA Spectrum Advanced Manufacturing Technologies, Inc., Colorado Springs, CO; Zin Technologies, Inc., Middleburg Heights, OH; Trident Systems Incorporated, Fairfax, VA; L3 Technologies, Inc., Communication Systems-East Division, Camden, NJ; XIA LLC, Hayward, CA; IDEAS Engineering & Technology, LLC, Albuquerque, NM; Linear Space Technology LLC, Hamilton, NJ; Planet Labs, Inc., San Francisco, CA; Virginia Polytechnic Institute and State University, Blacksburg, VA; Solidyn Solutions, LLC, Greenwood Village, CO; Sensing Strategies, Inc., Pennington, NJ; Vox Space, LLC, El Segundo, CA; Airbus Defense and Space, Inc., Herndon, VA; SES Government Solutions, Inc., Reston, VA; Altamira Corporation, McLean, VA; Blacknight Cybersecurity International, Inc., Colorado Springs, CO; NXTRAC, Rolling Hills Estates, CA; Dynetics, Inc., Huntsville, AL; University of Michigan, Ann Arbor, MI; Relativity Space, Inc., Inglewood, CA; Corvid Technologies, LLC, Mooresville, NC; Honeywell International Inc., Clearwater, FL; Yotta Navigation Corporation, Santa Clara, CA; Stotler Henke Associates, Inc., San Mateo, CA; Stellar Solutions, Inc., Palo Alto, CA; Bryce Space and Technology, LLC, Alexandria, VA; and Earth Resources Technology, Inc., Laurel, MD.

The general area of SpEC's planned activity is (1) minimize barriers to entry businesses and non-traditional vendors to work with the U.S. Government and to identify and realize teaming opportunities among entities to promote integrated research and prototyping efficiencies, and (2) reducing the cost of prototype development.

Suzanne Morris,
Chief, Premerger and Division Statistics Unit, Antitrust Division.

[FR Doc. 2018-21431 Filed 10-1-18; 8:45 am]

BILLING CODE 4410-11-P